NATIONAL SCIENCE FOUNDATION

Agency Information Collection Activities: Comment Request; NSF Non-Academic Research Internships for Graduate Students (INTERN) Program

AGENCY: National Science Foundation.

ACTION: Submission for OMB review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Title of Collection: NSF INTERN Program Assessment.

OMB Number: 3145-NEW.

Type of Request: Intent to seek approval to establish an information collection.

Abstract: Fostering the growth of a globally competitive and diverse research workforce and advancing the scientific and innovation skills of the Nation is a strategic objective of the National Science Foundation (NSF). The Nation's global competitiveness depends critically on the readiness of the Nation's Science, Technology, Engineering and Mathematics (STEM) workforce and NSF seeks to continue to invest in programs that directly advance this workforce. As part of this effort, NSF invests in a number of graduate student preparedness activities to ensure they are well-prepared for the 21st century STEM Workforce, and a supplemental funding opportunity is available in fiscal year FY 2021 to provide support for graduate students through non-academic research internships (INTERN Program) in any sector of the U.S. economy.

The goal of the INTERN program is three-fold:

1. To provide graduate students with the opportunity to augment their research assistantships with non-academic research internship activities and training opportunities that will complement their academic research training.

2. To allow graduate students to pursue activities aimed at acquiring professional development experience that will enhance their preparation for multiple career pathways after graduation.

3. To encourage the participation of graduate students from groups that have traditionally been underrepresented and underserved in the STEM enterprise: Women, persons with disabilities, African Americans/Blacks, Hispanic Americans, American Indian, Alaska Natives.

In order to support the agency's mission and continue meeting the program's goals, we are asking the graduate students who participated in the INTERN program to report the following information:

• Logistics of the Internship

○ Start and end date

○ Principal Investigator supporting the internship

○ Host organization

○ Host mentor

• Internship Experience

○ Hours worked

○ Job Training

○ Interaction with host mentor

○ Location of the host organization

○ Work environment

○ Company culture

○ Project scope

○ Overall satisfaction

• Industry Best Practices & Skills Development

○ Introducing industry best practices to academic environment

○ Forthcoming Publications resulting from the internship

○ Experiential learning and professional preparation

• Post-graduate/Career Plans

○ General career direction after graduation

○ Helpfulness of the internship experience in making career choices

○ Likelihood of working at the host organization or similar organizations

Since the agency will not be able to receive feedback from students by way of annual reports, being able to collect this information will help the managing Program Directors to assess whether the INTERN program helps participants in terms of workforce development, career decisions, and professional preparation, thereby ensuring the program goals are met. In addition, these data will also allow NSF to evaluate the intellectual merit of the program, its broader impact in developing the STEM workforce and its potential to enhance the participation of underrepresented and underserved STEM communities in such traineeships. Finally, in compliance with the Evidence Act of 2019, information collected will be used in satisfying congressional requests, responding to queries from the public, informing the NSF's external Committees of Visitors who serve to evaluate the foundation, working with the NSF's Office of the Inspector General, and supporting the agency's policymaking and internal evaluation and assessment needs.

Information collected in this survey will include the name of the participants, their affiliated organizations, email addresses, and home states. These personal identifiable information (PII) are collected primarily for record tracking and organizing. In addition, questions pertaining to participants' gender, race, ethnicity, and disability status will also be asked but those questions will be marked as voluntary. These PII data will be accessed only by the managing Program Directors, NSF senior management, and supporting staff conducting analyses using the data as authorized by NSF. Any public reporting of data will be in aggregate form, and any personal identifiers will be removed.

Use of the Information: The information collected is primarily for program assessment and agency internal evaluation.

Estimate burden on the public: Estimated 20 minutes per survey for 250 participants, for a total of 83 hours per year.

Respondents: Graduate students who participate in the INTERN program.

Estimated number of respondents: 1,000 the first year; 250 annually.

Average Time per Reporting: 20 minutes.

Frequency: Annually.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Dated: June 10, 2021.
Suzanne H. Plimpton,
Reports Clearance Officer, National Science Foundation.

[FR Doc. 2021-12666 Filed 6-15-21; 8:45 am]

BILLING CODE 7555-01-P